DEPARTMENT OF HEALTH AND HUMAN SERVICES

National Institutes of Health

National Institute on Drug Abuse; Amended Notice of Meeting

Notice is hereby given of a change in the meeting of the National Institute on Drug Abuse Special Emphasis Panel, January 27, 2009, 9 a.m. to January 27, 2009, 1 p.m., Courtyard by Marriott Rockville, 2500 Research Boulevard, Rockville, MD 20850 which was published in the Federal Register on December 12, 2008, Vol. 73, No. 240.

The location of the meeting was changed to Rockville Hilton Hotel, 1750 Rockville Pike, Rockville, MD 20852. The meeting is closed to the public.

Dated: January 22, 2009.
Jennifer Spaeth,
Director, Office of Federal Advisory Committee Policy.

[FR Doc. E9-1844 Filed 1-29-09; 8:45 am]

BILLING CODE 4140-01-M